DEPARTMENT OF JUSTICE

Notice of Lodging of Consent Decree Under the Comprehensive Environmental Response, Compensation, and Liability Act of 1980

Notice is hereby given that on December 9, 2008, a Complaint was filed and a proposed Consent Decree was lodged with the United States District Court for the District of Massachusetts in United States of America v. City of Attleboro, Massachusetts, et al., Civil Action No. 1:08-cv-120378.

In this action the United States seeks reimbursement of response costs incurred by EPA for response actions at the Shpack Landfill Superfund Site (“Site”) in Norton and Attleboro Massachusetts, and performance of studies and response work at the Site consistent with the National Contingency Plan, 40 CFR part 300, pursuant to Sections 106 and 107 of the Comprehensive Environmental, Response, Compensation, and Liability Act, 42 U.S.C. 9606 and 9607 (“CERCLA”). The Consent Decree provides that the settling parties will perform the chemical portion of the cleanup work at the Site, currently estimated at $29 million, as well as reimburse EPA for up to $2.9 million of EPA's future costs. The Consent Decree includes a covenant not to sue by the United States under Sections 106 and 107 of CERCLA, §§ 9606 and 9607, and Section 7003 of the Resource Conservation and Recovery Act (“RCRA”), 42 U.S.C. 6973.

The Department of Justice will receive for a period of thirty (30) days from the date of this publication comments relating to the Consent Decree. Commenters may request an opportunity for a public meeting in the affected area, in accordance with Section 7003(d). Comments should be addressed to the Principal Deputy Assistant Attorney General, Environment and Natural Resources Division, and either e-mailed to pubcomment-ees.enrd@usdoj.gov or mailed to P.O. Box 7611, U.S. Department of Justice, Washington, DC 20044-7611, and should refer to United States v. City of Attleboro, Massachusetts, et al., D.J. Ref. 90-11-2-08360.

The Consent Decree may be examined at the Office of the United States Attorney, 1 Courthouse Way, John Joseph Moakely Courthouse, Suite 9200, Boston, MA 02210, and U.S. EPA Region 1, One Congress St., Suite 1100, Boston, MA 02114. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $125.50 (25 cents per page reproduction cost) payable to the U.S. Treasury or, if by e-mail or fax, forward a check in that amount to the Consent Decree Library at the stated address.

Ronald G. Gluck,
Assistant Chief, Environmental Enforcement Section, Environment and Natural Resources Division.

[FR Doc. E8-30142 Filed 12-18-08; 8:45 am]

BILLING CODE 4410-15-P